DEPARTMENT OF COMMERCE

International Trade Administration

[A-337-806]

Notice of Antidumping Duty Order: IQF Red Raspberries From Chile

AGENCY: Import Administration, International Trade Administration, Department of Commerce.

ACTION: Notice of antidumping duty order.

EFFECTIVE DATE: July 9, 2002.

FOR FURTHER INFORMATION CONTACT: Cole Kyle or Blanche Ziv, (202) 482-1503 or (202) 482-4207, respectively; Import Administration, International Trade Administration, U.S. Department of Commerce, 14th Street and Constitution Avenue, NW., Washington, DC 20230.

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce (“Department”) regulations are to 19 CFR part 351 (April 2001).

Scope of Order

The products covered by this order are imports of IQF whole or broken red raspberries from Chile, with or without the addition of sugar or syrup, regardless of variety, grade, size or horticulture method (e.g., organic or not), the size of the container in which packed, or the method of packing. The scope of the order excludes fresh red raspberries and block frozen red raspberries (i.e., puree, straight pack, juice stock, and juice concentrate).

The merchandise subject to this order is classifiable under section 0811.20.2020 of the Harmonized Tariff Schedule of the United States (“HTSUS”). Although the HTSUS subheading is provided for convenience and customs purposes, the written description of the scope of this order is dispositive.

Antidumping Duty Order

In accordance with section 735(d) of the Act, the Department published its final determination that IQF red raspberries from Chile are being, or are likely to be, sold in the United States at less than fair value (“LTFV”). See Notice of Final Determination of Sales at Less Than Fair Value: IQF Red Raspberries from Chile, 67 FR 35790 (May 21, 2002). Subsequently, the Department amended its final determination of the antidumping duty investigation of IQF red raspberries from Chile to correct a ministerial error in the final margin calculation for one respondent. See Notice of Amended Final Determination of Sales at Less Than Fair Value: IQF Red Raspberries from Chile, 67 FR 40270 (June 12, 2002). On July 2, 2002, the International Trade Commission notified the Department of its final determination pursuant to section 735(b)(1)(A)(i) of the Act that an industry in the United States is materially injured by reason of LTFV imports of subject merchandise from Chile.

Therefore, in accordance with section 736(a)(1) of the Act, the Department will direct the Customs Service to assess, upon further advice by the Department, antidumping duties equal to the amount by which the normal value of the merchandise exceeds the export price (or the constructed export price) of the merchandise for all relevant entries of IQF red raspberries from Chile, except for subject merchandise produced and exported by Exportadora Frucol and Comercial Fruticola, which received zero and de minimis final margins, respectively. For all producers and exporters, with the exception of Exportadora Frucol and Comercial Fruticola, antidumping duties will be assessed on all unliquidated entries of imports of the subject merchandise that are entered, or withdrawn from warehouse, for consumption on or after December 31, 2001, the date on which the Department published its notice of affirmative preliminary determination in the Federal Register. See Notice of Preliminary Determination of Sales at Less Than Fair Value and Postponement of Final Determination: IQF Red Raspberries From Chile, 66 FR 67510 (December 31, 2001).

On or after the date of publication of this notice in the Federal Register, Customs Service officers must require, at the same time that importers deposit estimated normal customs duties, a cash deposit equal to the estimated weighted-average antidumping duty margins as noted below. The “All Others” rate applies to all exporters of subject merchandise not specifically listed. The weighted-average dumping margins are as follows:

Exporter/Manfacturer | Weighted-average margin percentage
Comercial Fruticola | (¹)
Exportadora Frucol | (¹)
Fruticola Olmue | 6.33
All Others | 6.33
¹ Excluded.

This notice constitutes the antidumping duty order with respect to IQF red raspberries from Chile, pursuant to section 736(a) of the Act. Interested parties may contact the Department's Central Records Unit, room B-099 of the main Department building, for copies of an updated list of antidumping duty orders currently in effect.

This order is published in accordance with section 736(a) of the Act and 19 CFR 351.211.

Dated: July 3, 2002.
Joseph A. Spetrini,
Acting Assistant Secretary for Import Administration.

[FR Doc. 02-17199 Filed 7-8-02; 8:45 am]

BILLING CODE 3510-DS-P